NUCLEAR REGULATORY COMMISSION

[NRC-2011-0225]

Closure of the U.S. Nuclear Regulatory Commission's Two White Flint North Building Entrance

AGENCY: Nuclear Regulatory Commission.

ACTION: Notice of closure.

SUMMARY: The U.S. Nuclear Regulatory Commission (NRC) is providing notice that beginning Monday, October 3, 2011, all visitors to the NRC White Flint Complex headquarters shall be required to enter through the recently renovated One White Flint North (OWFN) building entrance lobby. Only NRC badged employees and contractors shall be permitted to use the Two White Flint North (TWFN) building entrance. NRC staff shall meet visitors in the OWFN lobby waiting area and escort them to their destination.

DATES: The TWFN building entrance shall be closed to all NRC visitors beginning Monday, October 3, 2011.

ADDRESSES: One White Flint North is located at 11555 Rockville Pike, Rockville, MD 20852-2738. Two White Flint North is located at 11545 Rockville Pike, Rockville, MD 20852-2738.

FOR FURTHER INFORMATION CONTACT: Gary Simpler, Office of Administration, U.S. Nuclear Regulatory Commission, Washington, DC 20555-0001; telephone: 301-415-5002, e-mail: Gary.Simpler@nrc.gov.

Dated at Rockville, Maryland, this 23rd day of September, 2011.
For the U.S. Nuclear Regulatory Commission.
Cindy Bladey,
Acting Director, Division of Administrative Services, Office of Administration.

[FR Doc. 2011-25061 Filed 9-28-11; 8:45 am]

BILLING CODE 7590-01-P